DEPARTMENT OF COMMERCE

National Telecommunications and Information Administration

[Docket No. 000623194-0194-01]

RIN 0660-XX09

Notice, Request for Comments on Ultrawideband Systems Test Plan

AGENCY: National Telecommunications and Information Administration, U.S. Department of Commerce.

ACTION: Notice, request for comments.

SUMMARY: The Institute for Telecommunication Sciences (ITS) and the Office of Spectrum Management (OSM) of the National Telecommunications and Information Administration (NTIA) invite interested parties to review and comment on a proposed test plan for developing accurate, repeatable, and practical methods for characterizing the very narrow pulses (and pulse trains) of ultrawideband (UWB) systems and collecting the information to estimate or measure the potential for UWB systems to interfere with existing (narrowband, channelized, band-limited, and wideband) radio communications or sensing systems. This test plan covers the effects of UWB signals on selected Federal radio receivers, but does not include effects on Global Positioning System (GPS) receivers.¹

¹ NTIA is preparing a separate test plan to measure the effects of UWB signals on GPS receivers. NTIA intends to post that UWB-GPS test plan on the NTIA homepage in late-July and will seek public comment at that time.

The UWB test plan will be posted on the NTIA homepage at: <www.ntia.doc.gov/osmhome/uwbtestplan>. Interested parties may also obtain a copy of the test plan from ITS or OSM.

DATES: Interested parties are invited to submit comments on the test plan no later than July 17, 2000.

SUBMISSION OF DOCUMENTS: The Department invites the public to submit comments on the UWB test plan in paper or electronic form. Comments may be mailed to Paul Roosa, Office of Spectrum Management, National Telecommunications and Information Administration, Room 4099 HCHB, 1401 Constitution Ave., NW, Washington, DC 20230. Paper submissions should include a diskette in ASCII, WordPerfect (please specify version) or Microsoft Word (please specify version) format. Diskettes should be labeled with the name and organizational affiliation of the filer, and the name and version of the word processing program used to create the document.

In the alternative, comments may be submitted electronically to the following electronic mail address: <uwbtestplan@ntia.doc.gov>. Comments submitted via electronic mail should also be submitted in one or more of the formats specified above.

FOR FURTHER INFORMATION CONTACT: Dr. William Kissick, Institute for Telecommunication Sciences, telephone: (303) 497-7482; or electronic mail: <billk@its.bldrdoc.gov>; or Paul Roosa, National Telecommunications and Information Administration, telephone:(202) 482-1559; or electronic mail: <proosa@ntia.doc.gov>. Media enquiries should be directed to the Office of Public Affairs, National Telecommunications and Information Administration, at (202) 482-7002.

SUPPLEMENTARY INFORMATION: Recent advances in microcircuit and other technologies have resulted in the development of pulsed radar and communications systems with very narrow pulse widths and very wide bandwidths. These ultrawideband (UWB) systems have instantaneous bandwidths of at least 25 percent of the center frequency of the device. UWB systems can perform a number of useful telecommunication functions that make them very appealing for both the commercial and government applications. These systems have very wide information bandwidths, are capable of accurately locating nearby objects, and can use processing technology with UWB pulses to “see through objects” and communicate using multiple propagation paths. The bandwidths of UWB devices, however, are so wide that, although their output powers in many cases are low enough to be authorized under the unlicensed device regulations of the NTIA and the Federal Communications Commission (FCC), some of the systems emit signals in bands in which such transmissions are not permitted because of potential harmful effects on critical radiocommunication services.

The NTIA and the FCC have developed spectrum management procedures for unlicensed devices (conventional electronic devices with narrow bandwidths), but these procedures do not currently address UWB devices, which were unknown when these procedures were adopted. Thus, NTIA and the FCC must work closely with each other, current users of the radio spectrum, and the UWB community to determine how UWB devices can operate without adversely impacting existing radio-communication systems. The difficulty in measuring both the UWB signal characteristics and their effect on other devices exacerbates the difficulties of this coordination. The pulses are very narrow, often in the low nanosecond or picosecond range, requiring new measurement techniques and equipment to measure the signal characteristics accurately. Further, the interference effects of very narrow pulses with high repetition rates and aggregations of similar devices, such as could occur in some applications of UWB technology, are not well understood.

The NTIA has therefore undertaken this measurement program to develop information to help address the implementation and operation of UWB systems. The objectives of this test plan are to:

1. Develop measurement procedures that use commercial-off-the-shelf (COTS) measurement equipment to accurately portray UWB emission characteristics;

2. Observe effects of UWB signals in the intermediate frequency (IF) sections of selected receivers, and determine the susceptibility of conventional radio receivers to UWB emissions;

3. Provide a basis for development of a one-on-one interference analysis procedure to determine the minimum needed separation distances or the maximum peak and average effective isotropic radiated power (EIRP) of UWB devices to ensure compatibility;

4. Perform a limited set of measurements to validate the one-on-one interference analysis (above) between UWB signals and selected Federal radio receivers, particularly radio navigation and safety-of-life systems; and

5. Investigate how multiple UWB emissions add together within a single receiver.

Kathy D. Smith,
Chief Counsel.

[FR Doc. 00-16576 Filed 6-29-00; 8:45 am]

BILLING CODE 3510-60-P